DEPARTMENT OF COMMERCE

International Trade Administration

[A-201-822]

Stainless Steel Sheet and Strip in Coils From Mexico: Extension of Time Limit for Final Results of Antidumping Duty Administrative Review

AGENCY: Import Administration, International Trade Administration, Department of Commerce.

DATES: Effective Date: December 8, 2010.

FOR FURTHER INFORMATION CONTACT: Patrick Edwards, Brian Davis, or Angelica Mendoza, AD/CVD Operations, Office 7, Import Administration, International Trade Administration, U.S. Department of Commerce, 14th Street and Constitution Avenue, NW., Washington, DC 20230; telephone: (202) 482-8029, (202) 482-7924, or (202) 482-3019, respectively.

SUPPLEMENTARY INFORMATION:

Background

On August 9, 2010, the Department published in the Federal Register the preliminary results of the administrative review of the antidumping duty order on stainless steel sheet and strip in coils (S4 in coils) from Mexico for the period July 1, 2008, through June 30, 2009. See Stainless Steel Sheet and Strip in Coils From Mexico; Preliminary Results of Antidumping Duty Administrative Review, 75 FR 47780 (August 9, 2010) (Preliminary Results). In the Preliminary Results, we invited parties to comment. In response to the Department's invitation to comment on the preliminary results of this review, respondent, ThyssenKrupp Mexinox S.A. (Mexinox) submitted (1) a request for a public hearing and (2) a case brief on September 8, 2010. See Letter from Mexinox, titled “Stainless Steel Sheet and Strip in Coils from Mexico—Case Brief,” dated September 8, 2010 (Mexinox's Case Brief). Also on September 8, 2010, Allegheny Ludlum Corporation, AK Steel Corporation, and North American Stainless (collectively, petitioners), submitted a case brief. See Letter from Petitioners, titled “Stainless Steel Sheet and Strip in Coils from Mexico—Petitioner's Case Brief,” dated September 8, 2010 (Petitioners' Case Brief).

On September 9, 2010, the Department received a request from petitioners to extend the deadline to submit rebuttal briefs and on September 13, 2010, the Department granted this request. Petitioners timely submitted their rebuttal brief on September 15, 2010. See Letter from Petitioners, titled “Stainless Steel Sheet and Strip in Coils from Mexico—Petitioners' Rebuttal Brief,” dated September 15, 2010 (Petitioners' Rebuttal Brief). Also on September 15, 2010, Mexinox submitted its rebuttal brief. See Letter from Mexinox, titled “Stainless Steel Sheet and Strip in Coils from Mexico—Rebuttal Brief,” dated September 15, 2010 (Mexinox's Rebuttal Brief). On September 17, 2010, Mexinox withdrew its request for a hearing. See Letter from Mexinox, titled “Stainless Steel Sheet and Strip in Coils from Mexico—Withdrawal of Hearing Request,” dated September 17, 2010.

On November 17, 2010, we issued a letter to petitioners notifying them that we were rejecting their Case Brief because it contained new information regarding the U.S. entities that petitioners believe are purchasers of certain merchandise. Also on November 17, 2010, we issued a letter to Mexinox stating that we were rejecting its Rebuttal Brief because it also contained new information regarding the U.S. entities that petitioners believe are purchasers of certain merchandise. On November 22, 2010, Mexinox submitted its revised Rebuttal Brief, and on November 23, 2010, petitioners submitted its revised Case Brief. The current deadline for the final results of this review is December 7, 2010.

Extension of Time Limits for Final Results

Section 751(a)(3)(A) of the Tariff Act of 1930, as amended (the Act), requires the Department to complete the final results of an administrative review within 120 days after the date on which the preliminary results are published. However, if it is not practicable to complete the review within the time period, section 751(a)(3)(A) of the Act allows the Department to extend the 120 day time period for the final results up to 180 days.

The Department finds that it is not practicable to complete this review within the original time frame because additional analysis must be performed with respect to several complex issues raised by the parties, such as Mexinox's cost of production, contemporaneous matching, etc. Accordingly, the Department is extending the time limit for completion of the final results of this administrative review until no later than January 6, 2011, which is 150 days after the date on which the preliminary results of review were published.

This extension is issued and published in accordance with sections 751(a)(3)(A) and 777(i) of the Act.

Dated: December 2, 2010.
Susan H. Kuhbach,
Acting Deputy Assistant Secretary for Antidumping and Countervailing Duty Operations.

[FR Doc. 2010-30859 Filed 12-7-10; 8:45 am]

BILLING CODE 3510-DS-P